DEPARTMENT OF TRANSPORTATION

Federal Motor Carrier Safety Administration

[Docket No. FMCSA 2015-0508]

Agency Information Collection Activities; Extension of a Currently Approved Collection: Driver Qualification Files

AGENCY: Federal Motor Carrier Safety Administration (FMCSA), DOT.

ACTION: Notice and request for comments.

SUMMARY: In accordance with the Paperwork Reduction Act of 1995, FMCSA announces its plan to submit the Information Collection Request (ICR) described below to the Office of Management and Budget (OMB) for its review and approval, and invites public comment. The Agency's regulations pertaining to the qualification of operators of commercial motor vehicles (CMVs) are unchanged and impose no increased information-collection (IC) burden on individual drivers and motor carriers. However, the Agency increases its estimate of the total IC burden of these regulations because both the number of CMV drivers and the frequency of their hiring have increased since the Agency's 2012 estimate of this burden.

DATES: We must receive your comments on or before April 18, 2016.

ADDRESSES: You may submit comments identified by Federal Docket Management System Number FMCSA- 2015-0508 using any of the following methods:

• Federal eRulemaking Portal: http://www.regulations.gov. Follow the online instructions for submitting comments.

• Fax: 1-202-493-2251.

• Mail: Docket Management Facility; U.S. Department of Transportation, 1200 New Jersey Avenue SE., West Building, Ground Floor, Room W12-140, 20590-0001.

• Hand Delivery or Courier: West Building, Ground Floor, Room W12-140, 1200 New Jersey Avenue SE., Washington, DC between 9 a.m. and 5 p.m., e.t., Monday through Friday, except Federal holidays.

• Instructions: All submissions must include the Agency name and docket number. For detailed instructions on submitting comments and additional information on the exemption process, see the Public Participation heading below. Note that all comments received will be posted without change to http://www.regulations.gov, including any personal information provided. Please see the Privacy Act heading below.

• Docket: For access to the docket to read background documents or comments received, go to http://www.regulations.gov, and follow the online instructions for accessing the dockets, or go to the street address listed above.

• Privacy Act: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

• Public Participation: The Federal eRulemaking Portal is available 24 hours each day, 365 days each year. You can obtain electronic submission and retrieval help and guidelines under the “help” section of the Federal eRulemaking Portal Web site. If you want us to notify you that we received your comments, please include a self-addressed, stamped envelope or postcard, or print the acknowledgement page that appears after submitting comments online. Comments received after the comment closing date will be included in the docket and will be considered to the extent practicable.

FOR FURTHER INFORMATION CONTACT: Mr. Robert F. Schultz, FMCSA Driver and Carrier Operations Division, Department of Transportation, FMCSA, West Building 6th Floor, 1200 New Jersey Avenue SE., Washington, DC, 20590. Telephone: 202-366-4325. Email: MCPSD@dot.gov.

SUPPLEMENTARY INFORMATION:

Background

The Motor Carrier Safety Act of 1984 [Pub.L. 98-554, Title II, 98 Stat. 2834 (October 30, 1984)] requires the Secretary of Transportation to issue regulations pertaining to commercial motor vehicle (CMV) safety. These regulations are also issued under the authority provided by 49 U.S.C. 504, 31133, 31136, and 31502. Part 391 of volume 49 of the Code of Federal Regulations contains the minimum qualifications of drivers of CMVs in interstate commerce.

Motor carriers may not require or permit an unqualified driver to operate a CMV. The foremost proof of driver qualification is the information that part 391 requires be collected and maintained in the driver qualification file (DQ file). Motor carriers must obtain this information from sources specified in the regulations (49 CFR 391.51). These include the driver, previous employers of the driver, and officials of the State of driver licensure.

Motor carriers are not required to forward driver qualification information to FMCSA, but must maintain the information in a DQ file. The DQ file of each driver must be made available to State and Federal safety investigators on demand.

The Agency is asking OMB to approve FMCSA's revised estimate of the paperwork burden imposed by its DQ file regulations. The regulations have not been amended; the information-collection (IC) burden imposed on individual drivers and motor carriers by the regulations is unchanged. However, the Agency has increased its estimate of the total IC burden of the DQ-file regulations because both the number of CMV drivers and the turnover rate in their hiring have increased since the Agency's 2012 estimate of this burden. The increase in the number of CMV drivers is partly the result of the Agency being directed by OMB to include intrastate as well as interstate drivers in the population of drivers incurring an IC burden under the DQ file regulations. The Agency had excluded intrastate drivers from its previous estimate, approved by OMB on July 8, 2013, on the ground that drivers who operate exclusively in intrastate commerce were maintaining DQ files pursuant to State, not Federal, law.

Title: Driver Qualification Files.

OMB Control Number: 2126-0004.

Type of Request: Extension of a currently approved ICR.

Respondents: Motor carriers and drivers of commercial motor vehicles.

Estimated Number of Respondents: 6.2 million (5.7 million drivers and .5 million motor carriers.

Estimated Time per Response: 28 minutes (average).

Expiration Date: July 31, 2016.

Frequency of Response: Responses to some regulatory requirements of the driver qualification rules occur on a random basis. Other responses occur more predictably. Some responses recur; others do not. For example, motor carriers are required to obtain and review the motor vehicle driving record of their drivers from the State of licensure. They must complete this task at the time of hiring and every year thereafter. The time-of-hiring requirement results in a random frequency of response, but, thereafter, the annual requirement results in a fixed frequency of response.

Estimated Total Annual Burden: 9.8 million hours.

Definitions

(1) “Federal Motor Carrier Safety Regulations” (FMCSRs) are parts 350-399 of Title 49 of the Code of Federal Regulations. (2) “Commercial Motor Vehicle” (CMV) is “a self-propelled or towed vehicle used on the highways in interstate commerce to transport passengers or property, if the vehicle—

(A) has a gross vehicle weight rating or gross combination weight rating, or gross vehicle weight or gross combination weight, of at least 10,001 pounds, whichever is greater;

(B) is designed or used to transport more than 8 passengers (including the driver) for compensation;

(C) is designed or used to transport more than 15 passengers, including the driver, and is not used to transport passengers for compensation; or

(D) is used in transporting material found by the Secretary of Transportation to be hazardous under section 5103 of this title and transported in a quantity requiring placarding under regulations prescribed by the Secretary under section 5103.”

Public Comments Invited

FMCSA requests that you comment on any aspect of this information collection, including: (1) Whether the proposed collection is necessary for FMCSA to perform its functions, (2) the accuracy of the estimated burden, (3) ways for the FMCSA to enhance the quality, usefulness, and clarity of the collected information, and (4) ways that the burden could be minimized without reducing the quality of the collected information. The agency will summarize or include your comments in the request for OMB's clearance of this information collection.

Issued under the authority of 49 CFR 1.87 on February 5, 2016.
Kelly Regal,
Associate Administrator for Office of Research and Information Technology.

[FR Doc. 2016-03183 Filed 2-16-16; 8:45 am]

BILLING CODE 4910-EX-P